DEPARTMENT OF ENERGY

Federal Energy Regulatory Commission

Combined Notice of Filings #1

Take notice that the Commission received the following electric rate filings:

Docket Numbers: ER10-2628-001; ER11-3959-002; ER11-4363-001.

Applicants: Lost Creek Wind, LLC, Post Rock Wind Power Project, LLC, Osage Wind, LLC.

Description: Notice of change in status of Lost Creek Wind, LLC et al.

Filed Date: 3/26/12.

Accession Number: 20120326-5191.

Comments Due: 5 p.m. ET 4/16/12.

Docket Numbers: ER11-3614-006; ER11-3551-003; ER11-3822-002; ER11-3553-003; ER11-3554-003; ER11-3824-002.

Applicants: Glacial Energy Holdings, Glacial Energy of New York, Glacial Energy of New England, Inc., Glacial Energy of New Jersey, Inc., Glacial Energy of California, Inc., Glacial Energy of Illinois, Inc.

Description: Notice of Non-Material Change in Status of the Glacial Sellers.

Filed Date: 3/26/12.

Accession Number: 20120326-5193.

Comments Due: 5 p.m. ET 4/16/12.

Docket Numbers: ER12-1352-000.

Applicants: Southwest Power Pool, Inc.

Description: Ministerial Changes to Oklahoma Gas & Electric Co. Formula Rate Templates to be effective 7/26/2010.

Filed Date: 3/27/12.

Accession Number: 20120327-5005.

Comments Due: 5 p.m. ET 4/17/12.

Docket Numbers: ER12-1353-000.

Applicants: Keystone Energy Partners, LP.

Description: Base Line Filing Cancellation to be effective 3/31/2012.

Filed Date: 3/27/12.

Accession Number: 20120327-5010.

Comments Due: 5 p.m. ET 4/17/12.

Docket Numbers: ER12-1354-000.

Applicants: Southwest Power Pool, Inc.

Description: Southwest Power Pool, Inc.'s Notice of Cancellation of Meter Agent Agreement.

Filed Date: 3/26/12.

Accession Number: 20120326-5188.

Comments Due: 5 p.m. ET 4/16/12.

Docket Numbers: ER12-1355-000.

Applicants: Iron Energy LLC.

Description: Baseline New to be effective 3/27/2012.

Filed Date: 3/27/12.

Accession Number: 20120327-5029.

Comments Due: 5 p.m. ET 4/17/12.

Docket Numbers: ER12-1356-000.

Applicants: New York Independent System Operator, Inc., Niagara Mohawk Power Corporation.

Description: Agreement No. 1872 between Niagara Mohawk and Wheelabrator Hudson Falls to be effective 10/24/2011.

Filed Date: 3/27/12.

Accession Number: 20120327-5032.

Comments Due: 5 p.m. ET 4/17/12.

Docket Numbers: ER12-1357-000.

Applicants: Louisville Gas and Electric Company.

Description: 03_27_12 Att P Rev NSI to be effective 6/1/2012.

Filed Date: 3/27/12.

Accession Number: 20120327-5037.

Comments Due: 5 p.m. ET 4/17/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 27, 2012.
Nathaniel J. Davis, Sr.,
Deputy Secretary.

[FR Doc. 2012-8025 Filed 4-3-12; 8:45 am]

BILLING CODE 6717-01-P